FEDERAL FINANCIAL INSTITUTIONS EXAMINATION COUNCIL

[Docket No. AS24-10]

Agency Information Collection Activities; Reporting Information for the AMC Registry

AGENCY: Appraisal Subcommittee of the Federal Financial Institutions Examination Council.

ACTION: Request for comment.

SUMMARY: The Appraisal Subcommittee (ASC) is issuing this Notice of Request (Notice) for public comment on the reporting information for the National Registry of Appraisal Management Companies (AMC Registry) to the Office of Management and Budget (OMB) of proposed collection of information. In conjunction with the Paperwork Reduction Act of 1995, the ASC submitted to the OMB a request for review of approval of information collection listed below. The purpose of this Notice is to allow an additional 30 days for public comment from all interested individuals and organizations.

DATES: Written comments must be received on or before May 20, 2024 to be assured of consideration.

ADDRESSES: Written comments and recommendations for the proposed information collection should be sent to www.reginfo.gov/public/do/PRAMain. Find this particular information collection by selecting “Currently under 30-day Review—Open for Public Comments” or by using the search function.

FOR FURTHER INFORMATION CONTACT: For information, contact Lori Schuster, Management and Program Analyst, ASC at (202) 595-7578 or Lori@asc.gov.

SUPPLEMENTARY INFORMATION: This proposed information collection was previously published in the Federal Register on February 5, 2024, at 89 FR 7707 and allowed 60 days for public comment. No comments were received to that notice.

Title: Reporting Information for the AMC Registry.

The Dodd-Frank Act requires the ASC to maintain the AMC Registry of those AMCs that are either: (1) registered with and subject to supervision by a State that has elected to register and supervise AMCs; or (2) are Federally regulated AMCs. In order for a State that elected to register and supervise AMCs to enter an AMC on the AMC Registry, the following items are required entries by the State via extranet application on the AMC Registry:

State Abbreviation

State Registration Number for AMC

Employer Identification Number (EIN)

AMC Name

Street Address

City

State

Zip

License or Registration Status

Effective Date

Expiration Date

AMC Type (State or multi-State)

Disciplinary Action

Effective Date

Expiration Date

Number of Appraisers (for invoicing registry fee)

States listing AMCs on the AMC Registry enter the above information for each AMC for the initial entry only. After the initial entry, the information is retained on the AMC Registry, and will be amended, if necessary, by the State. Currently, 51 States have elected to register and supervise AMCs with 50 States currently entering data in the AMC Registry.

OMB Number: 3139-0009.

Burden Estimates

Type of Review: Regular.

Affected Public: States.

Estimated Number of Respondents: 51 States.

Estimated Burden per Response: 15 minutes.

Frequency of Response: Annually and on occasion.

Estimated Total Annual Burden Hours: We estimate that a State will spend approximately 25.25 hours annually submitting data to the ASC for a total of 1,287.75 hours.

* * * * *

By the Appraisal Subcommittee.
James R. Park,
Executive Director.

[FR Doc. 2024-08377 Filed 4-18-24; 8:45 am]

BILLING CODE 6700-01-P